OFFICE OF THE UNITED STATES TRADE REPRESENTATIVE

[Docket No. 301-120]

Extension of Investigation and Request for Public Comment: Wheat Trading Practices of the Canadian Wheat Board

AGENCY: Office of the United States Trade Representative.

ACTION: Notice and request for comments.

SUMMARY: The United States Trade Representative (Trade Representative) has decided to extend his investigation of the wheat trading practices of the Government of Canada and the Canadian Wheat Board until January 22, 2002. The Office of the United States Trade Representative (USTR) invites public comments on the issues in the investigation.

DATES: Comments are due on or before 5 pm on Monday, January 14, 2002.

ADDRESS: Comments should be submitted (i) electronically, to FR0011@ustr.gov, with Docket 301-120 in the subject line, or (ii) by mail, to Sybia Harrison, Staff Assistant to the Section 301 Committee, ATTN: Docket 301-120, Office of the United States Trade Representative, 1724 F Street, NW, Room 217, Washington, DC 20508, with a confirmation copy sent electronically or by fax to 202-395-9458.

FOR FURTHER INFORMATION CONTACT: Sharon Bomer Lauritsen, Director of Agricultural Affairs, (202) 395-6127, or William Busis, Associate General Counsel, (202) 395-3150. For information concerning procedures for submitting public comments, please contact Sybia Harrison, Staff Assistant to the Section 301 Committee, (202) 395-3419.

SUPPLEMENTARY INFORMATION: On September 8, 2000, the North Dakota Wheat Commission filed a petition pursuant to section 302(a) of the Trade Act of 1974, as amended (the Trade Act) (19 U.S.C. 2412(a)), alleging that certain wheat trading practices of the Government of Canada and the Canadian Wheat Board (CWB) are unreasonable, and that such practices burden or restrict U.S. commerce. In response to the petition, the Trade Representative initiated an investigation on October 23, 2000 to determine whether such acts, policies or practices of the Government of Canada and the Canadian Wheat Board with respect to wheat trading are unreasonable and burden or restrict U.S. commerce and are, therefore, actionable under section 301. See 65 FR 69,362 (Nov. 16, 2000).

On March 30, 2001 the Trade Representative requested that the United States International Trade Commission (ITC) conduct an investigation, pursuant to section 332 of the Tariff Act of 1930, of the conditions of competition between the U.S. and Canadian wheat industries in the United States and third-country markets. The ITC issued a confidential version of its Section 332 report on November 1, 2001, and a public version is scheduled for release on December 21, 2001. The report is entitled: “Wheat Trading Practices: Competitive Conditions Between U.S. and Canadian Wheat (Inv. No. 332-429).”

On September 24, 2001, the petitioner requested in writing that the Trade Representative delay a decision on the actionability of CWB practices until January 22, 2002. In light of the petitioner's request and in order to have sufficient time to analyze the ITC Section 332 report, the Trade Representative decided to extend his investigation until January 22, 2002. Accordingly, on October 5, 2001 the Trade Representative determined under Section 304(a)(1) of the Trade Act that he had insufficient information at that time to make a final determination that the wheat trading practices of the Government of Canada and the Canadian Wheat Board are actionable under Section 301(b), and announced that he would make a determination as to actionability by January 22, 2002.

Public Comment: Requirements for Submissions

Interested persons are invited to submit written comments on any issues raised in the petition or in other submissions to USTR in this investigation. In particular, comments are invited regarding (i) The actionability under Section 301(b) of the Trade Act of the acts, policies and practices of the Government of Canada and the Canadian Wheat Board that are the subject of this investigation; (ii) the burden or restriction, if any, on U.S. commerce caused by these acts, policies and practices; and (iii) appropriate action under section 301 which could be taken in response. In preparing comments, interested persons may wish to draw on the information or analysis contained in the ITC report.

Persons submitting comments in response to this notice should, by no later than 5 pm on Monday, January 14, 2002, either send one copy by U.S. mail, first class, postage prepaid, to Sybia Harrison at the address listed above or transmit a copy electronically to FR0011@ustr.gov, with Docket 301-120 in the subject line. For documents sent by U.S. mail, USTR requests that the submitter provide a confirmation copy, either electronically or by fax to 202-395-9458. USTR encourages the submission of documents in Adobe PDF format, as attachments to an electronic mail. For any document containing business confidential information submitted by electronic transmission, the file name of the business confidential version should begin with the characters “BC”, and the file name of the public version should begin with the characters “P”. The “P” or “BC” should be followed by the name of the submitter. Interested persons who make submissions by electronic mail should not provide separate cover letters; information that might appear in a cover letter should be included in the submission itself. Similarly, to the extent possible, any attachments to the submission should be included in the same file as the submission itself, and not as separate files.

Comments will be placed in a file (Docket 301-120) open to public inspection pursuant to 15 CFR 2006.13, except confidential business information exempt from public inspection in accordance with 15 CFR 2006.15. Confidential business information submitted in accordance with 15 CFR 2006.15 must be clearly marked “BUSINESS CONFIDENTIAL” at the top of each page, and must be accompanied by a nonconfidential summary of the confidential information. The nonconfidential summary shall be placed in the file that is open to public inspection. Copies of the public version of the petition, other documents submitted in the investigation, and the public version of the ITC Section 332 report are available for public inspection in the USTR Reading Room. The USTR Reading Room is open to the public from 10 a.m. to 12 noon and 1 p.m. to 4 p.m., Monday through Friday, and is located in Room 3, First Floor, Office of the United States Trade Representative, 1724 F Street, NW, Washington, DC 20508. An appointment to review the docket (Docket No. 301-120) may be made by calling Brenda Webb at (202) 395-6186.

William L. Busis,
Chairman, Section 301 Committee.

[FR Doc. 01-31589 Filed 12-20-01; 8:45 am]

BILLING CODE 3190-01-P